ENVIRONMENTAL PROTECTION AGENCY

[FRL-9201-8]

Science Advisory Board Staff Office; Notification of Public Teleconferences of the Mountaintop Mining Panel

AGENCY: Environmental Protection Agency (EPA).

ACTION: Notice.

SUMMARY: The EPA Science Advisory Board (SAB) Staff Office announces two public teleconferences of the SAB Mountaintop Mining Panel to discuss the Panel's draft reports.

DATES: A public teleconference will be held on Wednesday, October 20, 2010 from 1 p.m. to 5 p.m. (Eastern Time). Should the Panel need additional time, a second public teleconference will be held on Tuesday, October 26, 2010 from 1 p.m. to 4 p.m. (Eastern Time).

ADDRESSES: The public teleconference will be conducted by telephone only.

FOR FURTHER INFORMATION CONTACT: Any member of the public wishing to obtain general information concerning the public teleconference may contact Mr. Edward Hanlon, Designated Federal Officer (DFO), via telephone at (202) 564-2134 or e-mail at hanlon.edward@epa.gov. General information concerning the EPA Science Advisory Board can be found on the SAB Web site at http://www.epa.gov/sab.

SUPPLEMENTARY INFORMATION: Pursuant to the Federal Advisory Committee Act (FACA), 5 U.S.C., App. 2, notice is hereby given that the SAB Mountaintop Mining Panel will hold a public teleconference to discuss its draft reports. The SAB was established pursuant to 42 U.S.C. 4365 to provide independent scientific and technical advice to the Administrator on the technical basis for Agency positions and regulations. The SAB is a Federal Advisory Committee under FACA. The SAB will comply with the provisions of FACA and all appropriate SAB Staff Office procedural policies.

The Panel met on July 20-22, 2010 to review EPA's The Effects of Mountaintop Mines and Valley Fills on Aquatic Ecosystems of the Central Appalachian Coalfields and Field-Based Aquatic Life Benchmark for Conductivity in Central Appalachian Streams draft reports [Federal Register Notice dated May 25, 2010 (75 FR 29339-29340)]. Materials from the July 2010 meeting are posted on the SAB Web site at http://yosemite.epa.gov/sab/sabproduct.nsf/a84bfee16cc358ad85256ccd006b0b4b/4bb87d5b9c6dea458525770400481586!OpenDocument&Date=2010-07-21. The purpose of the October 20, 2010 teleconference call and the October 26, 2010 teleconference call if it occurs is to discuss the Panel's draft peer review reports of the two EPA documents.

Availability of Meeting Materials: Agendas and materials in support of these meetings will be placed on the EPA Web site at http://www.epa.gov/sab in advance of each meeting. For technical questions and information concerning EPA's draft documents, please contact Dr. Michael Slimak, EPA Office of Research and Development (ORD), at (703) 347-8524 or by e-mail at slimak.michael@epa.gov.

Procedures for Providing Public Input: Interested members of the public may submit relevant written or oral information for the Mountaintop Mining Panel to consider on the topics of this advisory activity. Oral Statements: In general, individuals or groups requesting an oral presentation at a teleconference meeting will be limited to three minutes per speaker, with no more than a total of one hour for all speakers. Interested parties should contact Mr. Hanlon at the contact information provided above by October 13, 2010, to be placed on the public speaker list for the October 20, 2010 teleconference call. Written Statements: Written statements should be received in the SAB Staff Office by October 13, 2010 for the October 20, 2010 teleconference call, so that the information can be made available to the Mountaintop Mining Panel for their consideration prior to the teleconference call. Written statements should be supplied to Mr. Hanlon in the following formats: One hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Mr. Hanlon at (202) 564-2134 or e-mail at hanlon.edward@epa.gov, preferably at least ten (10) days prior to the meeting, to give EPA as much time as possible to process your request.

Dated: September 8, 2010.
Anthony F. Maciorowski,
Deputy Director, EPA Science Advisory Board Staff Office.

[FR Doc. 2010-22979 Filed 9-14-10; 8:45 am]

BILLING CODE 6560-50-P